DEPARTMENT OF LABOR

Occupational Safety and Health Administration

29 CFR Part 1910

[Docket No. S-777]

RIN 1218-AB36

Ergonomics Program

AGENCY: Occupational Safety and Health Administration (OSHA), Department of Labor.

ACTION: Proposed rule: change of location of informal public hearing; change of date for notices of intention to appear.

SUMMARY: OSHA is changing the location of the informal public hearing on the economic impact of the Agency's proposed Ergonomics Program Standard on State and local governments, the United States Postal Service (USPS), and the railroads. OSHA is also extending the date for Notices of Intention to Appear at the informal public hearing. The supplemental analysis of the impacts of the proposed rule on these three groups is in the public docket of this rulemaking, Docket S-777, Exhibit 28-15. The hearing will be held on the date planned, July 7, 2000, but the location of the hearing has been changed.

The broader context for OSHA's actions can be found in the Notice of Proposed Rulemaking, published in the Federal Register of November 23, 1999 (64 FR 65768). The procedures followed at the July 7 continuation of the public hearing will be the same as those used in the previous nine weeks of public hearings on the proposed ergonomics standard (see OSHA's home page at www.osha.gov or 65 FR 11948; March 7, 2000).

DATES: Notice of Intention To Appear at the Informal Public Hearing: The deadline for the submission of notices of intention to appear at the informal public hearing has been extended; notices must be postmarked no later than June 21, 2000, and public comments on the issues raised by the economic analysis of the standard's impacts on the three groups must be postmarked no later than June 22, 2000. If you submit a notice of intention to appear by facsimile or electronically through OSHA's Internet site, you must transmit the notice by June 21, 2000.

Pre-Hearing Comments: Written comments addressing the economic impacts of the rule in these industries must be postmarked no later than June 22, 2000. If you submit comments by facsimile or electronically through OSHA's Internet site, you must transmit those comments by June 22, 2000.

Hearing Testimony and Documentary Evidence: If you will be requesting more than 10 minutes for your oral presentation at the hearing, you must submit the full testimony, postmarked no later than June 27, 2000, or if you will be submitting documentary evidence at the hearing, you must submit all of that evidence, postmarked no later than June 27, 2000.

Informal Public Hearing: The public hearing will be held in Atlanta, Georgia, beginning at 9:00 a.m., on July 7, 2000 and is expected to conclude that day.

Post-hearing Comments: Written post-hearing comments must be postmarked no later than August 10, 2000. If you submit comments by facsimile or electronically through OSHA's Internet site, you must transmit those comments no later than August 10, 2000. The publication of this document and the related public hearing do not affect the 90-day period established earlier for post-hearing submissions related to the proposed Ergonomics Program Standard (65 FR 11948, March 7, 2000). That period also ends on August 10, 2000.

ADDRESSES: Written Comments: Mail: Submit four copies of written comments to: OSHA Docket Office, Docket No. S-777, U.S. Department of Labor, Room N-2625, 200 Constitution Avenue, NW, Washington, D.C. 20210; telephone (202) 693-2350.

Facsimile: If your written comments are 10 pages or less, you may fax them to the Docket Office. The OSHA Docket Office fax number is (202) 693-1648.

Electronic: You may also submit comments electronically through OSHA's Homepage at www.osha.gov. Please note that you may not attach materials such as studies or journal articles to your electronic comments. If you wish to include such materials, you must submit them separately in duplicate to the OSHA Docket Office at the address listed above. When submitting such materials to the OSHA Docket Office, you must clearly identify your electronic comments by name, date, and subject, so that we can attach them to your electronic comments.

Notice of Intention to Appear: Mail: Notices of intention to appear at the informal public hearing may be submitted by mail in quadruplicate to: Ms. Veneta Chatmon, OSHA Office of Public Affairs, Docket No. S-777, U.S. Department of Labor, 2000 Constitution Avenue, N.W., Room N-3647, Washington, D.C. 20210; Telephone: (202) 693-2119.

Facsimile: You may fax your notice of intention to appear to Ms. Chatmon at (202) 693-1634.

Electronic: You may also submit your notice of intention to appear electronically through OSHA's Homepage at www.osha.gov.

Hearing Testimony and Documentary Evidence: You must submit in quadruplicate your hearing testimony and any documentary evidence you intend to present at the informal public hearing to Ms. Veneta Chatmon, OSHA Office of Public Affairs, Docket No. S-777, U.S. Department of Labor, Room N-3647, 200 Constitution Ave, NW, Washington, D.C. 20210. Telephone: (202) 693-2119, You may also submit your hearing testimony and documentary evidence on disk (3½ inch) in WP 5.1, 6.0, 6.1, 8.0 or ASCII, provided you also send the original hardcopy at the same time.

Informal Public Hearing: The one-day public hearing to be held in Atlanta, Georgia will be located in Conference Rooms B&C of the Sam Nunn Atlanta Federal Center, 61 Forsyth St., S.W., Atlanta, Georgia 30303.

FOR FURTHER INFORMATION CONTACT: OSHA's Ergonomics Team at (202) 693-2116, or visit the OSHA Homepage at www.osha.gov.

Authority: This document was prepared under the direction of Charles N. Jeffress, Assistant Secretary of Labor for Occupational Safety and Health, U.S. Department of Labor, 200 Constitution Avenue, NW, Washington, DC 20210. It is issued under sections 4, 6, and 8 of the Occupational Safety and Health Act of 1970 (29 U.S.C. 653, 655, 657), Secretary of Labor's Order No. 6-96 (62 FR 111), and 29 CFR part 1911.

Signed at Washington, DC, this 8th day of June, 2000.
Charles N. Jeffress,
Assistant Secretary of Labor for Occupational Safety and Heath.

[FR Doc. 00-14971 Filed 6-13-00; 8:45 am]

BILLING CODE 4510-26-M